ENVIRONMENTAL PROTECTION AGENCY

[FRL-11273-01-OAR]

Renewable Fuel Standard (RFS) Program Compliance; Notification of Webinar

AGENCY: Environmental Protection Agency (EPA).

ACTION: Notification of webinar.

SUMMARY: The Environmental Protection Agency (EPA) is announcing a public webinar on the new regulatory provisions of the Renewable Fuel Standard (RFS) program.

DATES: The webinar will be held on September 7, 2023. Additional information regarding the workshop appears below under SUPPLEMENTARY INFORMATION.

ADDRESSES: All attendees must pre-register for the webinar by notifying the contact person listed under FOR FURTHER INFORMATION CONTACT by August 31, 2023. Additional information related to the webinar will be posted at: https://www.epa.gov/renewable-fuel-standard-program/rfs-set-rule-implementation-webinar. Interested parties should check the website for any updated information.

FOR FURTHER INFORMATION CONTACT: Nick Parsons, Office of Transportation and Air Quality, Assessment and Standards Division, Environmental Protection Agency; telephone number: (734) 214-4479; email address: RFS-Hearing@epa.gov.

SUPPLEMENTARY INFORMATION: EPA is hosting a public webinar to discuss the implementation of the new regulatory provisions promulgated as part of the Renewable Fuel Standard (RFS) final rule for 2023-2025 (the “Set Rule”).¹ These regulatory provisions include updated third-party engineering review requirements, new independence requirements for independent third-party auditors and professional engineers, an alternative recordkeeping requirement for parties using separated food waste, and updated regulatory provisions for the production, distribution, and use of biogas as a renewable fuel.

¹ 88 FR 44468 (July 12, 2023).

During the webinar, EPA intends to discuss the following:

• An overview of the regulatory amendments in the Set Rule.

• A detailed overview of the updated biogas regulatory provisions.

• A demonstration of the registration system updates for parties that want to use the alternative recordkeeping provisions for separated food waste.

• Changes to three-year engineering review updates and third-party engineer independence requirements.

• An overview of the new regulatory provisions for mixed digesters.

• A moderated question-and-answer period for stakeholders to ask additional questions related to these provisions.

EPA will post an agenda approximately one week before the webinar at: https://www.epa.gov/renewable-fuel-standard-program/rfs-set-rule-implementation-webinar. Interested parties should check this website for any updated information.

If you require the services of an interpreter or special accommodations such as audio description, please pre-register for the webinar and describe your needs by August 24, 2023. EPA may not be able to arrange accommodations without advance notice.

Byron Bunker,
Director, Compliance Division, Office of Transportation and Air Quality.

[FR Doc. 2023-17310 Filed 8-11-23; 8:45 am]

BILLING CODE 6560-50-P